DEPARTMENT OF LABOR

Employment and Training Administration

[TAW39, 065 and TAW39, 065A]

Mundy Industrial Contractor at Dupont Corporation, Kinston Plant, Kinston, NC; Mundy Industrial Contractors At Dupont Coporation, Cape Fear Plant, Wilmington (Leland), NC; Notice of Revised Determination on Reconsideration

By application of August 24, 2001, the petitioner, requested administrative reconsideration regarding the Department's Negative Determination Regarding Eligibility to Apply for Worker Adjustment Assistance, applicable to the workers of the subject firm.

The initial investigation resulted in a negative determination issued on July 30, 2001, based on the finding that criterion (1) of the group eligibility requirements of Section 222 of the Trade Act of 1974 was not met. Employment increased during the relevant period. The denial notice was published in the Federal Register on August 15, 2001 (66 FR 42878).

To support the request for reconsideration, the applicant provided additional information explaining the trends in employment of the contract workers engaged in activities relating to the production of polyester fiber at the two Dupont plants.

Upon examination of the data supplied by the applicant, it became apparent that declines in employment occurred at both plants during the relevant period. The workers were engaged in activities related to production of polyester fiber at the two Dupont Corporation plants. The Dupont plants were certified eligible to apply for Trade Adjustment Assistance under TA-W-35, 961 (expired August 23, 2001) followed by a further TAA certification under TA-W-39 743 (which began on August 24, 2001).

Based on data supplied by Dupont Corporation in case TA-W-39, 743, it has become evident that all criteria have been met for the workers of Mundy Industrial Contactors working at Dupont Corporation, Kinston Plant, Kinston, North Carolina and Cape Fear Plant, Wilmington, (Leland), North Carolina performing work related to the production activities at these certified plants. Plant sales, production and employment declined and customer imports increased during the relevant period.

Conclusion

After careful review of the additional facts obtained on reconsideration, I conclude that increased imports of articles like or directly competitive with those produced at Dupont Corporation's Cape Fear Plant, Wilmington (Leland), North Carolina and Dupont Corporation's Kinston Plant, Kinston, North Carolina, contributed importantly to the declines in the total or partial separation of Mundy Industrial Contactors workers, who performed work in direct support of the production of polyester fiber at the two Dupont plants. In accordance with the provisions of the Act, I make the following certification:

Workers of Mundy Industrial Contractors engaged in employment activities related to the production of polyester fiber at Dupont Corporation's, Kinston Plant, Kinston, North Carolina (TA-W-39, 065) and Cape Fear Plant, Wilmington (Leland), North Carolina (TA-W-39), 065A), who became totally or partially separated from employment on or after April 5, 2000 through two years from the date of this certification, are eligible to apply for adjustment assistance under Section 223 of the Trade Act of 1974.

Signed in Washington, DC this 19th day of February 2002.
Edward A. Tomchick,
Director, Division of Trade Adjustment Assistance.

[FR Doc. 02-5589 Filed 3-7-02; 8:45 am]

BILLING CODE 4510-30-M